FEDERAL COMMUNICATIONS COMMISSION

Public Information Collection(s) Requirement Submitted to OMB for Emergency Review and Approval

June 13, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 28, 2003. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-3562 or via internet at Kim_A._Johnson@omb.eop.gov, and Les Smith, Federal Communications Commission, Room 1-A804, 445 12th Street, SW., Washington, DC 20554 or via internet to Leslie.Smith@fcc.gov.

FOR FURTHER INFORMATION CONTACT: For additional information or copies of the information collections contact Les Smith at 202-418-0217 or via internet at Leslie.Smith@fcc.gov.

SUPPLEMENTARY INFORMATION: The Commission has requested emergency OMB review of this collection with an approval by June 27, 2003.

OMB Control Number: 3060-0849.

Title: Commercial Availability of Navigation Devices, CS Docket No. 97-80.

Form Number: N/A.

Type of Review: Revision of a currently approved collection.

Respondents: Business or other for-profit entities.

Number of Respondents: 215.

Estimated Time per Response: 10 mins. to 40 hrs.

Frequency of Response: Quarterly and semi-annual reporting requirements; Third Party Disclosure.

Total Annual Burden: 3,384 hours.

Total Annual Costs: $33,450.

Needs and Uses: On April 25, 2003 the FCC released an Order and Further Notice of Proposed Rulemaking (“Order and FNPRM”), In the Matter of Implementation of Section 304 of the Telecommunications Act of 1996, Commercial Availability of Navigation Devices, CS Docket No. 97-80, FCC 03-89. In this Order and FNPRM the Commission extends by eighteen months the existing 2005 deadline in Section 76.1204(a)(1) prohibiting the deployment of integrated navigation devices by multichannel video programming distributors in order to promote the retail sale of non-integrated host devices. This extension was granted in light of ongoing negotiations between the cable and consumer electronics industries that may affect the technical specifications relating to host devices and associated point-of-deployment modules. The Commission also committed to completing a reassessment of the upcoming ban on integrated devices, based in part upon the status of these negotiations, prior to January 1, 2005. In order to complete its assessment in a timely manner, the FCC has requested that the cable and consumer electronics industries file progress reports with the Commission on the status of their negotiations at 90, 180, and 270 day intervals following release of the Order and FNPRM. The proposed progress reports would be used as a partial basis to elicit public comment as a part of a rulemaking proceeding pursuant to the Order and FNPRM on the appropriateness of the new July 1, 2006 ban on integrated devices, based upon the status of these negotiations. This objective is commensurate with our statutory directive in Section 629 of the Communications Act of 1934, as amended, to act “in consultation with appropriate industry standard-setting organizations” to assure the commercial availability of navigation devices used in conjunction with services provided by multichannel video programming distributors (“MVPDs”).

Federal Communications Commission.
Marlene H. Dortch,
Secretary.

[FR Doc. 03-16113 Filed 6-25-03; 8:45 am]

BILLING CODE 6712-01-P